DEPARTMENT OF COMMERCE

International Trade Administration

[A-570-827]

Certain Cased Pencils From the People's Republic of China: Rescission of Antidumping Duty Administrative Review

AGENCY: Import Administration, International Trade Administration, Department of Commerce.

SUMMARY: In response to requests from interested parties, the Department of Commerce (“the Department”) initiated an administrative review of the antidumping duty order covering certain cased pencils (“pencils”) from the People's Republic of China (“PRC”). The period of review is December 1, 2009, through November 30, 2010. Based on the withdrawal of these requests for review, we are now rescinding this administrative review.

DATES: Effective Date: May 13, 2011.

FOR FURTHER INFORMATION CONTACT: Mahnaz Khan or David Layton, at (202) 482-0914 or (202) 482-0371, respectively; AD/CVD Operations, Office 1, Import Administration, International Trade Administration, U.S. Department of Commerce, 14th Street and Constitution Avenue, NW., Washington, DC 20230.

SUPPLEMENTARY INFORMATION:

Background

On December 28, 1994, the Department published in the Federal Register the antidumping duty order on pencils from the PRC. See Antidumping Duty Order: Certain Cased Pencils from the People's Republic of China, 59 FR 66909 (December 28, 1994) (“the order”). On December 1, 2010, the Department published a notice of opportunity to request an administrative review of the order covering the period December 1, 2009, through November 30, 2010. See Antidumping or Countervailing Duty Order, Finding, or Suspended Investigation; Opportunity To Request Administrative Review, 75 FR 74682 (December 1, 2010).

On December 20, 2010, in accordance with 19 CFR 351.213(b), Beijing Fila Dixon Stationery Company, Ltd. (“Beijing Dixon”), an exporter and an interested party, timely filed a request for administrative review of the order with respect to its exports. On December 29, 2009, Shandong Rongxin Import & Export, Co., Ltd. (“Rongxin”), a foreign producer and exporter, timely filed a request for administrative review of the order with respect to its exports. Based on these requests, on January 28, 2011, the Department initiated an administrative review of the antidumping duty order on pencils from the PRC. See Initiation of Antidumping and Countervailing Duty Administrative Reviews, 76 FR 5137 (January 28, 2011).

Rescission of Review

Pursuant to 19 CFR 351.213(d)(l), the Department will rescind an administrative review, in whole or in part, if the party that requested a review withdraws the request within 90 days of the date of publication of the notice of initiation of the requested review. On March 15, 2011, Rongxin withdrew its request for administrative review. On April 6, 2011, Beijing Dixon withdrew its request for administrative review. Rongxin's and Beijing Dixon's withdrawal requests are within the 90-day period, and no other party requested an administrative review of the antidumping duty order on pencils from the PRC. Therefore, the Department hereby rescinds the administrative review of the antidumping duty order on pencils from the PRC for the period December 1, 2009, through November 30, 2010.

Assessment

The Department will instruct U.S. Customs and Border Protection (“CBP”) to assess antidumping duties on all appropriate entries at rates equal to the cash deposit of estimated antidumping duties required at the time of entry, or withdrawal from warehouse, for consumption, in accordance with 19 CFR 351.212(c)(1)(i). The Department intends to issue appropriate assessment instructions to CBP 15 days after the date of publication of this notice of rescission of administrative review.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

This notice is issued and published in accordance with 19 CFR 351.213(d)(4).

Dated: May 9, 2011.
Christian Marsh,
Deputy Assistant Secretary for AD/CVD Operations.

[FR Doc. 2011-11849 Filed 5-12-11; 8:45 am]

BILLING CODE 3510-DS-P